EXPORT-IMPORT BANK OF THE UNITED STATES

Sunshine Act Meeting

ACTION: Notice of a partially open meeting of the Board of Directors of the Export-Import Bank of the United States.

Time and Place: Thursday, February 3, 2005 at 9:30 a.m. The meeting will be held at Ex-Im Bank in Room 1143, 811 Vermont Avenue, NW., Washington, DC 20571.

Open Agenda Item: Ex-Im Bank Sub-Saharan Africa Advisory Committee for 2005.

Public Participation: The meeting will be open to public participation for Item No. 1 only.

Further Information: For further information, contact: Office of the Secretary, 811 Vermont Avenue, NW., Washington, DC 20571 (Tel. No. (202) 565-3957).

James K. Hess,
Senior Vice President and Chief Financial Officer.

[FR Doc. 05-1727 Filed 1-26-05; 12:39 pm]

BILLING CODE 6690-01-M